DEPARTMENT OF HEALTH AND HUMAN SERVICES

Centers for Disease Control and Prevention

Hematologic Cancer Healthcare Provider Education Program

Announcement Type: New.

Funding Opportunity Number: AA191.

Catalog of Federal Domestic Assistance Number: 93.283.

Key Dates:

Application Deadline: August 11, 2005.

I. Funding Opportunity Description

Authority: This program is authorized under Sections 301(a) and 317(k)(2), of the Public Health Services Act, 42 U.S.C. Sections 241(a) and 247b(k)(2) as amended.

Purpose: The purpose of the program is to provide information and education among healthcare providers with respect to hematologic cancers. The successful implementation of this program will result in increased efforts to address hematologic cancer education, awareness and survivorship among healthcare providers. This program addresses the “Healthy People 2010” focus area 3, Cancer:

Objective 3-1 Reduce the overall cancer death rate; and

Objective 3-15 Increase the proportion of cancer survivors who are living five years or longer after diagnosis.

Measurable outcomes of the program will be in alignment with the following overarching CDC health promotion objectives: To reduce the health and economic consequences of the leading causes of death and disability and ensure a long, productive, healthy life for all people.

This announcement is only for non-research activities supported by CDC/ATSDR. If research is proposed, the application will not be reviewed. For the definition of research, please see the CDC Web site at the following Internet address: http://www.cdc.gov/od/ads/opspoll1.htm.

Activities

Awardee must submit a project proposal that supports activities related to the development and implementation of interactive Web-based health education and communication for health care providers on the signs, symptoms and current treatment of blood cancer.

Awardee Activities for this program are as follows:

• Develop an electronic based consultation system to provide physician-to-physician diagnostic and medical care consultation services on the signs and symptoms of all blood cancers.

• Develop a custom designed blood cancer Web site with the most up-to-date clinical content available and professional training courses developed by internal and/or external sources.

• Describe how the Web site and consultation system will provide secure communications and integrated Web-based services to physicians and other clinicians which may include integrated HIPAA-compliant secure e-mail, and online clinical consultation services.

• Describe how access will be secure and limited as appropriate to clinicians and physicians.

• Develop and implement an evaluation plan and quality control measures to ensure the most accurate and timely information is provided over the Web site and consultation system.

II. Award Information

Type of Award: Grant.

Fiscal Year Funds: 2005.

Approximate Total Funding: $1,000,000 (This amount is an estimate, and is subject to availability of funds).

Approximate Number of Awards: Three.

Approximate Average Award: $350,000 per award (This amount is for the first 12-month budget period, and includes both direct and indirect costs).

Floor of Award Range: None.

Ceiling of Award Range: $500,000 (This ceiling is for the first 12-month budget period).

Anticipated Award Date: August 31, 2005.

Budget Period Length: 12 months.

Project Period Length: One year.

Throughout the project period, CDC's commitment to continuation of awards will be conditioned on the availability of funds, evidence of satisfactory progress by the recipient (as documented in required reports), and the determination that continued funding is in the best interest of the Federal Government.

III. Eligibility Information

III.1. Eligible Applicants

Applications may be submitted by public and private nonprofit and for profit organizations and by governments and their agencies, such as:

• Public nonprofit organizations.

• Private nonprofit organizations.

• For profit organizations.

• Universities.

• Research institutions.

• Hospitals.

• Community-based organizations.

Competition is limited to the National Cancer Institutes (NCI)—39 designated Comprehensive Cancer Centers (CCC). Congress strongly encourages CDC to support activities related to the development of interactive Web based education for health care providers on the signs, symptoms and current treatment of blood cancer by comprehensive cancer centers. The CCCs provide a unique opportunity to address barriers to prevention and screening, improve quality of care, and improve the priority population's access to cancer prevention, early detection, and survivorship programs. The centers conduct extensive ancillary cancer-related activities such as outreach, education and information dissemination. Through all of these activities combined, the centers play an important role in their communities and regions and serve to influence standards of cancer prevention and treatment related to promotion of hematological health education, awareness, and information dissemination. Distinct from other cancer centers the CCCs have been recognized as all-encompassing in scope (e.g. outreach, education, and information dissemination), innovative in approach, and inclusive in their design to develop interventions that can reach all American. They serve as the classified cornerstone by NCI in influencing standards of cancer prevention and treatment in the cancer community. The list of applicants may be found at: http://www3.cancer.gov/cancercenters/centerslist.html.

III.2. Cost Sharing or Matching

Matching funds are not required for this program.

III.3. Other

CDC will accept and review applications with budgets greater than the ceiling of the award range.

Special Requirements

If the application is incomplete or non-responsive to the special requirements listed in this section, it will not be entered into the review process. The applicant will be notified the application did not meet submission requirements.

• Late applications will be considered non-responsive. See section “IV.3. Submission Dates and Times” for more information on deadlines.

• Applications are limited to the National Cancer Institutes (NCI)—39 designated Comprehensive Cancer Centers (CCC). The list of applicants may be found at: http://www3.cancer.gov/cancercenters/centerslist.html.

• Note: Title 2 of the United States Code Section 1611 states that an organization described in Section 501(c)(4) of the Internal Revenue Code that engages in lobbying activities is not eligible to receive Federal funds constituting an award, grant, or loan.

IV. Application and Submission Information

IV.1. Address to Request Application Package

To apply for this funding opportunity use application form PHS 5161-1.

Electronic Submission: CDC strongly encourages the applicant to submit the application electronically by utilizing the forms and instructions posted for this announcement on http://www.Grants.gov, the official Federal agency wide E-grant Web site. Only applicants who apply on-line are permitted to forego paper copy submission of all application forms.

Paper Submission: Application forms and instructions are available on the CDC web site, at the following Internet address: http://www.cdc.gov/od/pgo/forminfo.htm.

If access to the Internet is not available or if there is difficulty accessing the forms on-line, contact the CDC Procurement and Grants Office Technical Information Management Section (PGO-TIM) staff at: (770) 488-2700 and the application forms can be mailed.

IV.2. Content and Form of Submission

Application: A project narrative must be submitted with the application forms. The narrative must be submitted in the following format:

• Maximum number of pages: 20—If your narrative exceeds the page limit, only the first pages which are within the page limit will be reviewed.

• Font size: 12 point unreduced.

• Double spaced.

• Paper size: 8.5 by 11 inches.

• Page margin size: One inch.

• Printed only on one side of page.

• Held together only by rubber bands or metal clips; not bound in any other way.

The narrative should address activities to be conducted over the entire project period, and must include the following items in the order listed:

Statement of Need

Identify opportunities for development and/or improvement of cancer prevention and control activities with an emphasis on hematologic cancer survivorship at the regional and local levels. Describe the extent to which the proposed project will fill existing gaps and provide a brief description of each activity.

Work Plan

Submit a narrative and work plan (work plan may be submitted in a table format) for the project with established goals, objectives, strategies, measures of effectiveness, responsible staff and time lines. In the narrative, provide a concise description of the project and how it will be implemented and evaluated over the one-year project period. The work plan should address only activities to be conducted during the one year project period.

Management Plan

Submit a narrative for the overall project that describes a proposed management structure that addresses the use of qualified and diverse technical, program, administrative staff, organizational relationships and a system for sound fiscal management.

Evaluation Plan

For the project, describe a plan for monitoring progress toward achieving the objectives in the work plan.

Budget and Justification

Provide a budget for the project described in this program announcement. Submit a detailed budget and narrative justification that is consistent with the purpose of the program and is related to the proposed activities. Additional information may be included in the application appendices. The appendices will not be counted toward the narrative page limit. This additional information may include:

• Curriculum Vitas.

• Resumes.

• Job descriptions.

• Organization charts.

• Letters of Support.

The agency or organization is required to have a Dun and Bradstreet Data Universal Numbering System (DUNS) number to apply for a grant or cooperative agreement from the Federal Government. The DUNS number is a nine-digit identification number, which uniquely identifies business entities. Obtaining a DUNS number is easy and there is no charge. To obtain a DUNS number, access http://www.dunandbradstreet.com or call 1-866-705-5711.

For more information, see the CDC Web site at: http://www.cdc.gov/od/pgo/funding/grantmain.htm.

If the application form does not have a DUNS number field, please write the DUNS number at the top of the first page of the application, and/or include the DUNS number in the application cover letter.

Additional requirements that may require submittal of additional documentation with the application are listed in section “VI.2. Administrative and National Policy Requirements.”

IV.3. Submission Dates and Times

Application Deadline Date: August 11, 2005.

Explanation of Deadlines: Applications must be received in the CDC Procurement and Grants Office by 4 p.m. eastern time on the deadline date.

Applications may be submitted electronically at http://www.grants.gov. Applications completed on-line through Grants.gov are considered formally submitted when the applicant organization's Authorizing Official electronically submits the application to http://www.grants.gov. Electronic applications will be considered as having met the deadline if the application has been submitted electronically by the applicant organization's Authorizing Official to Grants.gov on or before the deadline date and time.

If submittal of the application is done electronically through Grants.gov (http://www.grants.gov), the application will be electronically time/date stamped, which will serve as receipt of submission. Applicants will receive an e-mail notice of receipt when CDC receives the application.

If submittal of the application is by the United States Postal Service or commercial delivery service, the applicant must ensure that the carrier will be able to guarantee delivery by the closing date and time. If CDC receives the submission after the closing date due to: (1) Carrier error, when the carrier accepted the package with a guarantee for delivery by the closing date and time, or (2) significant weather delays or natural disasters, the applicant will be given the opportunity to submit documentation of the carrier's guarantee. If the documentation verifies a carrier problem, CDC will consider the submission as having been received by the deadline.

If a hard copy application is submitted, CDC will not notify the applicant upon receipt of the submission. If questions arise on the receipt of the application, the applicant should first contact the carrier. If the applicant still has questions, contact the PGO-TIM staff at (770) 488-2700. The applicant should wait two to three days after the submission deadline before calling. This will allow time for submissions to be processed and logged.

This announcement is the definitive guide on application content, submission address, and deadline. It supersedes information provided in the application instructions. If the submission does not meet the deadline above, it will not be eligible for review, and will be discarded. The applicant will be notified that the application did not meet the submission requirements.

IV.4. Intergovernmental Review of Applications

Executive Order 12372 does not apply to this program.

IV. 5. Funding Restrictions

Restrictions, which must be taken into account while writing your budget, are as follows:

• Funds may not be used for research.

• Reimbursement of pre-award costs is not allowed.

• Funds may not be used for the purchase or lease of land or buildings, construction of facilities, renovation of existing space, or the delivery of clinical or therapeutic services.

If requesting indirect costs in the budget, a copy of the indirect cost rate agreement is required. If the indirect cost rate is a provisional rate, the agreement should be less than 12 months of age.

Guidance for completing the budget can be found on the CDC Web site, at the following Internet address: http://www.cdc.gov/od/pgo/funding/budgetguide.htm.

IV.6. Other Submission Requirements

Application Submission Address

Electronic Submission: CDC strongly encourages applicants to submit applications electronically at http://www.Grants.gov. The application package can be downloaded from http://www.Grants.gov. Applicants are able to complete it off-line, and then upload and submit the application via the Grants.gov Web site. E-mail submissions will not be accepted. If the applicant has technical difficulties in Grants.gov, customer service can be reached by e-mail at http://www.grants.gov/CustomerSupport or by phone at 1-800-518-4726 (1-800-518-GRANTS). The Customer Support Center is open from 7 a.m. to 9 p.m. eastern time, Monday through Friday.

CDC recommends that submittal of the application to Grants.gov should be early to resolve any unanticipated difficulties prior to the deadline. Applicants may also submit a back-up paper submission of the application. Any such paper submission must be received in accordance with the requirements for timely submission detailed in section IV.3. of the grant announcement. The paper submission must be clearly marked: “BACK-UP FOR ELECTRONIC SUBMISSION.” The paper submission must conform to all requirements for non-electronic submissions. If both electronic and back-up paper submissions are received by the deadline, the electronic version will be considered the official submission.

It is strongly recommended that the applicant submit the grant application using Microsoft Office products (e.g., Microsoft Word, Microsoft Excel, etc.). If the applicant does not have access to Microsoft Office products, a PDF file may be submitted. Directions for creating PDF files can be found on the Grants.gov Web site. Use of file formats other than Microsoft Office or PDF may result in the file being unreadable by staff.

Paper Submission: Applicants should submit the original and two hard copies of the application by mail or express delivery service to:

Technical Information Management—AA191, CDC Procurement and Grants Office, 2920 Brandywine Road, Atlanta, GA 30341.

V. Application Review Information

V.1. Criteria

Applicants are required to provide measures of effectiveness that will demonstrate the accomplishment of the various identified objectives of the grant. Measures of effectiveness must relate to the performance goals stated in the “Purpose” section of this announcement. Measures must be objective and quantitative, and must measure the intended outcome. These measures of effectiveness must be submitted with the application and will be an element of evaluation.

The application will be evaluated against the following criteria:

1. Work Plan (40 points)

How complete and comprehensive is the plan for the entire project period (20)? Is the plan adequate to carry out the proposed objectives (10)? Does the plan include quantitative process and outcome measures (10)?

2. Evaluation Plan (30 points)

Is the proposed evaluation plan feasible (15)? To what extent will the evaluation plan allow the applicant to monitor progress toward meeting project objectives (15)?

3. Management Plan (20 points)

How do you designate appropriate experience (5)? Are the staff roles clearly defined (5)? Will the staff be sufficient to accomplish the program goals (5)? Does the plan address the use of qualified and diverse staff, and describe internal and external communications systems and prior experience with conducting activities described in this program announcement (5)?

4. Statement of Need (10 points)

To what extent does the applicant justify the need, identify opportunities, and existing gaps related to the program announcement for the target community?

5. Budget and Justification (not scored)

The extent to which the proposed budget is adequately justified, reasonable, and consistent with this program announcement and the applicant's proposed activities.

V.2. Review and Selection Process

Applications will be reviewed for completeness by the Procurement and Grants Office (PGO) staff, and for responsiveness by NCCDPHP. Incomplete applications and applications that are non-responsive to the eligibility criteria will not advance through the review process. Applicants will be notified that their application did not meet submission requirements.

An objective review panel comprised of CDC Staff outside of the funding division will evaluate complete and responsive applications according to the criteria listed in the “V.1. Criteria” section above. The objective review process will follow the policy requirements as stated in the GPD 2.04 [http://198.102.218.46/doc/gpd204.doc].

Applications will be funded in order by score and rank determined by the review panel. CDC will provide justification for any decision to fund out of rank order.

V.3. Anticipated Announcement and Award Dates

August 31, 2005.

VI. Award Administration Information

VI.1. Award Notices

Successful applicants will receive a Notice of Award (NoA) from the CDC Procurement and Grants Office. The NoA shall be the only binding, authorizing document between the recipient and CDC. The NoA will be signed by an authorized Grants Management Officer, and mailed to the recipient fiscal officer identified in the application.

Unsuccessful applicants will receive notification of the results of the application review by mail.

VI.2. Administrative and National Policy Requirements

Successful applicants must comply with the administrative requirements outlined in 45 CFR part 74 and part 92 as appropriate. The following additional requirements apply to this project:

• AR-6 Patient Care

• AR-8 Public Health System Reporting Requirements

• AR-9 Paperwork Reduction Act Requirements

• AR-10 Smoke-Free Workplace Requirements

• AR-11 Healthy People 2010

• AR-12 Lobbying Restrictions

• AR-14 Accounting System Requirements

• AR-15 Proof of Non-Profit Status

• AR-24 Health Insurance Portability and Accountability Act Requirements

• AR-25 Release and Sharing of Data

Additional information on these requirements can be found on the CDC Web site at the following Internet address: http://www.cdc.gov/od/pgo/funding/ARs.htm.

For more information on the Code of Federal Regulations, see the National Archives and Records Administration at the following Internet address: http://www.access.gpo.gov/nara/cfr/cfr-table-search.html.

An additional Certifications form from the PHS5161-1 application needs to be included in the Grants.gov electronic submission only. Applicants should refer to http://www.cdc.gov/od/pgo/funding/PHS5161-1-Certificates.pdf. Once the applicant has filled out the form, it should be attached to the Grants.gov submission as Other Attachments Form.

VI.3. Reporting Requirements

The applicant must provide CDC with an original, plus two hard copies of the following reports:

1. Final report, due 90 days after the end of the budget period. This report must include the following elements:

a. A succinct description of the program accomplishments and progress made in meeting each Current Budget Period Activities Objectives during the previous six months of the budget period.

b. The reason(s) for not meeting established program objectives and strategies to be implemented to achieve unmet objectives.

2. Financial status report and annual progress report, no more than 90 days after the end of the budget period.

3. Final financial and performance reports, no more than 90 days after the end of the project period.

These reports must be mailed to the Grants Management or Contract Specialist listed in the “Agency Contacts” section of this announcement.

VII. Agency Contacts

We encourage inquiries concerning this announcement. For general questions, contact:

Technical Information Management Section, CDC Procurement and Grants Office, 2920 Brandywine Road, Atlanta, GA 30341; Telephone: (770) 488-2700.

For program technical assistance, contact:

Steven L. Reynolds, MPH, Project Officer, Associate Director for Program and Policy, Division of Cancer Prevention and Control, 4770 Buford Hwy., NE., Mailstop K-64, Atlanta, GA 30341; Telephone: (770) 488-4260; E-mail: slr6@cdc.gov.

For financial, grants management, or budget assistance, contact:

Nealean Austin, Grants Management Specialist, CDC Procurement and Grants Office, 2920 Brandywine Road, Atlanta, GA 30341; Telephone: (770) 488-2722; E-mail: nea1@cdc.gov.

VIII. Other Information

This and other CDC funding opportunity announcements can be found on the CDC Web site, Internet address: http://www.cdc.gov. Click on “Funding” then “Grants and Cooperative Agreements.”

Dated: July 6, 2005.
William P. Nichols,
Director, Procurement and Grants Office, Centers for Disease Control and Prevention.

[FR Doc. 05-13616 Filed 7-11-05; 8:45 am]

BILLING CODE 4163-18-P